DEPARTMENT OF TRANSPORTATION

Federal Aviation Administration

14 CFR Part 71

[Airspace Docket No. 01-ANM-08]

Modification of Class E Airspace, Coppertown and Butte, MT

AGENCY: Federal Aviation Administration (FAA), DOT.

ACTION: Final rule.

SUMMARY: This action makes several changes to the Class E airspace at Coppertown, MT. First the airspace designation is changed from Coppertown, MT, to Butte, MT. Second, the Class E airspace is now qualified to be active continuously because a new weather reporting system was installed. The changes made by this action are intended to provide positive control to aircraft executing instrument flight rule operations at Bert Mooney Airport, Butte, MT

EFFECTIVE DATE: 0901 UTC, November 28, 2002.

FOR FURTHER INFORMATION CONTACT: Mike Wall, ANM-520.7, Federal Aviation Administration, Docket No. 01-ANM-08, 1601 Lind Avenue SW., Renton, Washington 98055-4056: telephone number: (425) 227-2527.

SUPPLEMENTARY INFORMATION:

History

On July 10, 2001, the FAA proposed to amend Title 14 Code of Federal Regulations, part 71 (14 CFR part 71) by modifying the Class E airspace at Coppertown, MT (66 FR 35917). The Class E airspace hours of operation at Bert Mooney Airport, Butte, MT, previously were restricted by NOTAM due to the unavailability of weather reporting services. Newly installed weather reporting equipment at the airport now qualifies the Class E surface area for continuous operation. Class E airspace is required to contain aircraft executing the instrument flight operations at Bert Mooney Airport. Airspace researchers had noted confusion when trying to locate the airspace description. This action will eliminate that confusion by changing the name from the collocated VORTAC “Coppertown” to the city “Butte”. The intended effect of this action is to provide for the safe and efficient use of the navigable airspace. Interested parties were invited to participate in the rulemaking proceeding by submitting written comments on the proposal. A comment was received from the FAA, AVN-500, National Aeronautical Charting Office noting an error in the coordinates for the airport and Coopertown VORTAC. A revision to the legal description was made in the Notice for Proposed Rule Making (NPRM) to correct this. Notice and comment requirements were not published on this matter because the FAA determined that the error was minor and required that only the airspace description be changed and not the dimension of the affected airspace.

The Rule

This amendment changes the hours of operation due to the installation of new weather reporting equipment, which qualified the Class E airspace for continuous operation. The airspace was previously qualified for part-time operation between 1300 and 0659 UTC. This final rule also changes the airspace designation from Coppertown, MT to Butte, MT. This action will provide safe and efficient use of the navigable airspace and promote safe flight operations between the terminal and en route transition stages.

The airspace name change and effective hours will be depicted on aeronautical charts for pilot reference. The coordinates for this airspace docket are based on North American Datum 83. Class E airspace designated as surface areas are published in Paragraph 6002 of FAA Order 7400.9J dated August 31, 2001, and effective September 16, 2001, which is incorporated by reference in 14 CFR 71.1. The Class E airspace designation listed in this document will be published subsequently in the Order.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9J, Airspace Designations and Reporting Points, dated August 31, 2001, and effective September 16, 2001, is amended as follows:

Paragraph 6002 Class E Airspace Designated as Surface Areas

* * * * *

ANM MT E2 Coppertown, MT [REMOVED]

* * * * *

ANM MT E2 Butte, MT [NEW]

Bert Mooney Airport, MT

(Lat. 45°57′17″ N., long 112°29′51″ W)

Coppertown VORTAC

(Lat. 46°01′ 55″ N., long. 112°44′51″ W)

Within a 4.3-mile radius of the Bert Mooney Airport; and within 1.8 miles each side of the Coppertown VORTAC 115° radial extending from the 4.3-mile radius to the VORTAC, and within 2.7 miles each side of the 316° bearing from the airport extending from the 4.3-mile radius to 11.4 miles northwest of the airport.

* * * * *

Issued in Seattle, Washington, on August 6, 2002.
Kathryn M. Vernon,
Acting Assistant Manager, Air Traffic Division, Northwest Mountain Region.

[FR Doc. 02-21329 Filed 9-12-02; 8:45 am]

BILLING CODE 4910-13-M